FEDERAL COMMUNICATIONS COMMISSION

47 CFR Part 73

[MB Docket No. 21-177; RM-11904; DA 21-461; FR ID 26049]

Television Broadcasting Services Redding, California

AGENCY: Federal Communications Commission.

ACTION: Proposed rule.

SUMMARY: The Commission has before it a petition for rulemaking filed by Sinclair Media Licensee, LLC (Petitioner), the licensee of KRCR-TV (ABC), channel 7, Redding, California. The Petitioner requests the substitution of channel 15 for channel 7 at Redding, California in the DTV Table of Allotments.

DATES: Comments must be filed on or before June 11, 2021 and reply comments on or before June 28, 2021.

ADDRESSES: Federal Communications Commission, Office of the Secretary, 45 L Street NE, Washington, DC 20554. In addition to filing comments with the FCC, interested parties should serve counsel for the Petitioner as follows: Paul A. Cicelski, Esq., Lerman Senter, PLLC, 2001 L Street NW, Washington, DC 20036.

FOR FURTHER INFORMATION CONTACT: Shaun Maher, Media Bureau, at (202) 418-2324; or Shaun Maher, Media Bureau, at ShaunMaher@fcc.gov.

SUPPLEMENTARY INFORMATION: In support of its channel substitution request, the Petitioner states that the Commission has recognized that VHF channels have certain propagation characteristics which may cause reception issues for some viewers, and also that the reception of VHF signals requires larger antennas, that are generally not well suited to the mobile applications expected under flexible use, relative to UHF channels. According to the Petitioner, KRCR has received numerous complaints from viewers unable to receive an over-the-air signal, despite being able to receive signals from other stations. In addition, the Petitioner submitted an analysis, using the Commission's TVStudy software analysis program, demonstrating that the proposed channel change from channel 7 to 15 would result in a minimal loss of service to only 299 people currently predicted to receive KRCR's signal. In addition, the Petitioner states that KRCR's proposed channel 15 facility is predicted to serve a total of 517,605 people, a net gain of 30,175 potential viewers over the existing KRCR channel 7 licensed facility.

This is a synopsis of the Commission's Notice of Proposed Rulemaking, MB Docket No. 21-177; RM-11904; DA 21-461, adopted April 21, 2021, and released April 21, 2021. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

2. In § 73.622 in paragraph (i), amend the Post-Transition Table of DTV Allotments under California by revising the entry for Redding to read as follows:

§ 73.622 Digital television table of allotments.

* * * * *

(i) * * *

Community | Channel No.
* * * * *
California
* * * * *
Redding | * 9, 15.
* * * * *

[FR Doc. 2021-10022 Filed 5-11-21; 8:45 am]

BILLING CODE 6712-01-P